DEPARTMENT OF ENERGY

Federal Energy Regulatory Commission

Notice of Commission Staff Attendance

The Federal Energy Regulatory Commission (Commission) hereby gives notice that members of the Commission's staff may attend the following stakeholder meeting related to the transmission planning activities of PJM Interconnection, L.L.C.; Midcontinent Independent System Operator; New York Independent System Operator, Inc.; and the Southeastern Regional Transmission Planning regions.

Transmission Owner Order No. 1000 Interregional Cost Allocation Proposal Conference Call

June 17, 2013, 3:00 p.m.-5:00 p.m., Local Time

The above-referenced meeting will be held over conference call.

The above-referenced meeting is open to stakeholders.

Further information may be found at http://www.pjm.com/committees-and-groups/committees/toa-ac.aspx.

The discussions at the meeting described above may address matters at issue in the following proceedings:

Docket No. EL05-121, PJM Interconnection, L.L.C.

Docket No. EL10-52, Central Transmission, LLC v. PJM Interconnection, L.L.C.

Docket No. EL12-69, Primary Power LLC v. PJM Interconnection, L.L.C.

Docket No. ER08-1281, New York Independent System Operator, Inc.

Docket No. ER10-253 and EL10-14, Primary Power, L.L.C.

Docket No. ER11-1844, Midwest Independent Transmission System Operator, Inc.

Docket No. ER12-1178, PJM Interconnection, L.L.C.

Docket No. ER13-102, New York Independent System Operator, Inc.

Docket No. ER13-104, Florida Power & Light Company

Docket No. ER13-1052, PJM Interconnection, L.L.C. and the Midwest Independent Transmission System Operator, Inc.

Docket No. ER13-1054, PJM Interconnection, L.L.C. and the Midwest Independent Transmission System Operator, Inc.

Docket No. ER13-107, South Carolina Electric & Gas Company

Docket No. ER13-1221, Mississippi Power Company

Docket No. ER13-193, ISO New England Inc.

Docket No. ER13-195, Indicated PJM Transmission Owners

Docket No. ER13-196, ISO New England Inc.

Docket No. ER13-198, PJM Interconnection, L.L.C

Docket No. ER13-397, PJM Interconnection, L.L.C.

Docket No. ER13-673, PJM Interconnection, L.L.C

Docket No. ER13-703, PJM Interconnection, L.L.C.

Docket No. ER13-80, Tampa Electric Company

Docket No. ER13-83, Duke Energy Carolinas LLC and Carolina Power & Light Company

Docket No. ER13-84, Cleco Power LLC

Docket No. ER13-86, Florida Power Corporation

Docket No. ER13-88, Alcoa Power Generating, Inc.

Docket No. ER13-887, PJM Interconnection, L.L.C.

Docket No. ER13-897, Louisville Gas and Electric Company and Kentucky Utilities Company

Docket No. ER13-90, Public Service Electric and Gas Company and PJM Interconnection, L.L.C.

Docket No. ER13-908, Alabama Power Company et al.

Docket No. ER13-913, Ohio Valley Electric Corporation

Docket No. ER13-95, Entergy Arkansas, Inc.

For Further Information Contact: Jonathan Fernandez, Office of Energy Market Regulation, Federal Energy Regulatory Commission at (202) 502-6604 or jonathan.fernandez@ferc.gov.

Dated: June 12, 2013.
Kimberly D. Bose,
Secretary.

[FR Doc. 2013-14545 Filed 6-18-13; 8:45 am]

BILLING CODE 6717-01-P